DEPARTMENT OF HEALTH AND HUMAN SERVICES

Office of the Secretary

Agency Information Collection Activities: Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office on (202) 690-6207.

Comment are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. Evaluation of the Cash and Counseling Demonstration—0990-0223—Extension—Cash and Counseling is a consumer directed care model for individuals in need of personal assistance services. A demonstration project utilizing this model is being undertaken. The Office of the Assistant Secretary for Planning and Evaluation (ASPE), in partnership with the Robert Wood Johnson Foundation, is engaging in information collection for the purpose of evaluating this demonstration project. Controlled experimental design methodology is being used to test the effects of the experimental intervention: cash payments in lieu of arranged services for Medicaid covered beneficiaries. Respondents: Individuals or Households.

Burden Information for Client Interviews (0990-0223)
Instrument | Annual number of respondents | Hours per response | Burden hours
Baseline Survey | 560 | .38 | 215
4/6 Month Survey | 468 | .33 | 156
9 Month Survey | 933 | .70 | 653
Participation Survey | completed |  | 0
Total |  |  | 1,024

Proposed Project 2: Cash and Counseling Demonstration—Additional Survey Instruments—0990-0232—Extension—This portion of the ASPE/Robert Wood Johnson Foundation evaluation of the Cash and Counseling Demonstration consists of four non-client interviews. Respondents: Individuals or Households, For-profit, Non-profit Institutions.

Burden Information for Non-Client Interviews (0990-0223)
Instrument | Annual number of respondents | Hours per response | Burden hours
Informal Caregiver | 916 | .38 | 351
Paid Worker | 474 | .5 | 237
Consultant Survey | 50 | .5 | 25
Ethnographic Study | 25 | 1 | 25
Total |  |  | 638

Please send comments to Cynthia Agens Bauer, OS Reports Clearance Office, Room 503H, Humphrey Building, 200 Independence Avenue SW., Washington DC 20201. Written comments should be received within 60 days of this notice.

Dated: June 19, 2001.
Kerry Weems,
Acting, Deputy Assistant Secretary, Budget.

[FR Doc. 01-16026 Filed 6-26-01; 8:45 am]

BILLING CODE 4154-05-M